DEPARTMENT OF DEFENSE

Department of the Army

Performance Review Board Membership

AGENCY: Department of the Army, DoD.

ACTION: Notice.

SUMMARY: Notice is given of the names of members of a Performance Review Board for the Department of the Army.

DATES: Effective Date: September 30, 2006.

FOR FURTHER INFORMATION CONTACT: Lucrecia Murdock, Civilian Senior Leader Management Office, 140 Army Pentagon, Washington, DC 20310-0140.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Department of the Army Performance Review Boards are:

1. Ms. Kristine L. Allaman, Director, Strategic Integration, Headquarters, U.S. Army Corps of Engineers.

2. Dr. Richard Amos, Deputy to the Commander, U.S. Aviation and Missile Life Cycle Management Command.

3. Mr. William A. Armbruster, Deputy Assistant Secretary of the Army for Privatization and Partnership, Office of the Secretary of the Army (Installations and Environment).

4. Ms. Sue Baker, Principal Deputy for G-3 Operations, U.S. Army Materiel Command.

5. Mr. Terry F. Bautista, Regional Business Director, Gulf Region, Headquarters, U.S. Army Corps of Engineers.

6. Mr. Thomas R. Berard, Executive Director, U.S. Army White Sands Missile Range, U.S. Army Developmental Test Command.

7. BG Bruce A. Berwick, Commander, Great Lakes & Ohio River Division, U.S. Army Corps of Engineers.

8. Mr. Vernon M. Bettencourt, Deputy CIO/G-6. Office of the Chief Information Officer/G-6.

9. Mr. Scott Castle, Principal Deputy General Counsel, Office of the General Counsel.

10. MG James Cheatham, Assistant to the DCG for Reserve Affairs, US. Army Materiel Command.

11. Mr. William D. Chesarek, Director, U.S. Army Europe Global Rebasing and Restructuring Directorate, Headquarters, Europe and 7th Army, Office of the Deputy Chief of Staff, G-3.

12. Mr. Ronald Chronister, Executive Director, Integrated Material Management Center, U.S. Aviation and Missile Life Cycle Management Command.

13. Dr. Craig E. College, Deputy Assistant Chief of Staff for Installation Management, Office of the Assistant Chief of Staff for Installation Management.

14. Ms. Kathryn A. Condon, Executive Deputy to the Commander General, U.S. Army Materiel Command.

15. Mr. William J. Cooper, Special Assistant for Transportation Engineering/Director, Transportation Agency, Surface Deployment and Distribution Command.

16. Mr. James M. Crum, Deputy Director, Program Management Office, Iraq Reconstruction/Director PMO Washington, U.S. Army Acquisition Support Center, Office of the Director.

17. Mr. James C. Dalton, Regional Business Director, U.S. Army Corps of Engineers.

18. Mr. Addison D. Davis, IV, Deputy Assistant Secretary of the Army (Environment, Safety, and Occupational Health), Office of the Assistant Secretary of the Army (Installations and Environment).

19. Ms. Jeannie A. Davis, Chief, Policy and Program Development Division, Office of the Deputy Chief of Staff, G-1.

20. Mr. Scott J. Davis, Deputy Program Manager (Operations) Future Combat System, Office of the Assistant Secretary of the Army (Acquisition, Logistics and Technology).

21. Daniel B. Denning, Principal Deputy Assistant Secretary of the Army (Manpower and Reserve Affairs)/Deputy Assistant Secretary of the Army (Training Readiness and Mobilization).

22. Mr. Clifton L. Dickey, Special Assistant to the Deputy Chief of Staff G-3/5/7, Office of the Deputy Chief of Staff G-3/5/7.

23. Mr. George S. Dunlop, Principal Deputy Assistant Secretary of the Army (Civil Works)/Deputy Assistant Secretary of the Army (Legislative Liaison).

24. Mr. John Dugan, Deputy to the Commander, U.S. Tank-Automotive and Armaments Life Cycle Management Command.

25. Dr. Susan L. Duncan, Director of Human Resources, Headquarters, U.S. Army Corps of Engineers.

26. Mr. Thomas J. Edwards, Assistant Deputy Chief of Staff, G-4, Office of the Deputy Chief of Staff, G-4.

27. Mr. Victor Ferlise, Deputy to the Commander, U.S. Communication-Electronics Life Cycle Management Command.

28. Mr. Patrick J. Fitzgerald, The Auditor General, U.S. Army Audit Agency.

29. Mr. Nelson M. Ford, Principal Deputy/Assistant Secretary of the Army (Financial Management and Comptroller)/(Controls), Office of the Secretary of the Army (Financial Management and Comptroller).

30. BG Russell L. Frutiger, Deputy Chief of Staff, G-1 Deputy Commanding General, United States Army, North Atlantic Treaty Organization.

31. Mr. Troy E. Gilleland Jr., Assistant Deputy Chief of Staff, G-1, U.S. Army Forces Command.

32. Dr. Samuel L. Grier, Deputy Civilian Commandant, Office of the Secretary of Defense.

33. Ms. Judith A. Guenther, Director, Investment, Office of the Assistant Secretary of the Army (Financial Management and Comptroller).

34. Mr. Joseph F. Guzowski, Principal Deputy Chief of Legislative Liaison, Office, Chief of Legislative Liaison.

35. Mr. Robert W. Hall, Executive Director, U.S. Army Operational Test Command.

36. Ms. Wilhelmenia C. Hinton-Lee, Regional Business Director, Great Lakes & Ohio River Division.

37. Ms. Barbara J. Hefferman, Director, Resource Integration, Office of the Assistant Chief of Staff for Installation Management.

38. Ms. Stephanie L. Hoehne, Principal Deputy Chief of Public Affairs/Director, Soldiers Media Center, Office of Public Affairs.

39. Ms. Patricia L. Kelly, Director, Force Projection & Distribution, Office of the Assistant Secretary of the Army (Acquisition, Logistics and Technology).

40. Mr. Thomas E. Kelly III, Deputy Under Secretary of the Army, Office of the Under Secretary of the Army.

41. Dr. James R. Houston, Director, Engineer Research & Development Center (ERDC).

42. MG Ronald L. Johnson, Deputy Commanding General, U.S. Army Corps of Engineers.

43. Mr. Gregory Kee, Deputy Chief of Staff G-5 for Strategy and Concepts, U.S. Army Materiel Command.

44. Mr. Michael A. Kirby, Deputy Under Secretary of the Army for Business Transformation, Office of the Under Secretary of the Army.

45. Mr. J. Stephen Koons, Assistant Deputy Chief of Staff, G-4, U.S. Army Forces Command.

46. Mr. Douglas W. Lamont, Deputy Assistant Secretary of the Army (Project Planning and Review), Office of the Assistant Secretary of the Army (Civil Works).

47. Dr. Michael J. Lavan, Director, Technology Directorate, U.S. Army Space and Missile Defense Command.

48. Mr. Mark R. Lewis, Assistant Deputy Chief of Staff for Operations, G-3/5/7, Office of the Deputy Chief of Staff, G-3/5/7.

49. Ms. Carol E. Lowman, Director, Southern Region, U.S. Army Contracting Agency, Office of the Assistant Secretary of the Army (Acquisition, Logistics and Technology).

50. Mr. Mark D. Manning, Special Assistant to the Assistant Secretary of the Army (Manpower and Reserve Affairs), Office of the Assistant Secretary of the Army (Manpower and Reserve Affairs).

51. Mr. Gary P. Martin, Director, U.S. Army Communication—Electronics Research, Development and Engineering Center, U.S. Army Research, Development and Engineering Center, U.S. Army Research, Development and Engineering Command.

52. Mr. John C. Metzler, Jr., Director of Cemetery Operations, Arlington National Cemetery, Military District of Washington.

53. Mr. John M. Miller, Director, U.S. Army Research Laboratory, U.S. Army Research, Development and Engineering Command.

54. Ms. Kathleen S. Miller, Director, Operations and Support Office of the Assistant Secretary of the Army (Financial Management and Comptroller).

55. Mr. Wesley C. Miller, Director, Resource Management, U.S. Army Corps of Engineers.

56. Ms. Joyce E. Morrow, Administrative Assistant to the Secretary of the Army.

57. Florabel G. Mullick, M.D., Sc.D, FCAP, Principal Deputy Director, Armed Forces Institute of Pathology.

58. Mr. Thomas E. Mullins, Deputy Assistant Secretary of the Army for Plans, Programs and Resources, Office of the Assistant Secretary of the Army (Acquisition, Logistics and Technology).

59. Mr. Dean G. Popps, Principal Deputy Assistant Secretary of the Army (Acquisition, Logistics and Technology)/Director for Iraq Reconstruction and Program Management), Office of the Assistant Secretary of the Army (Acquisition, Logistics and Technology).

60. Mr. Geoffrey G. Prosch, Principal Deputy Assistant Secretary of the Army (Installations, Logistics & Environment), Office of the Assistant Secretary of the Army (Installations and Environment).

61. Mr. William J. Reeves, Jr., Director, Technical Interoperability and Matrix Center, U.S. Army Space and Missile Defense Command.

62. Mr. Allan M. Resnick, Director, Requirements Integration, U.S. Army Training and Doctrine Command.

63. Mr. Mark Sagan, Chief Counsel, U.S. Communication—Electronics Life Cycle Management Command.

64. Mr. Philip E. Sakowitz, Jr., Deputy, Installation Management Agency.

65. Mr. Richard G. Sayre, Executive Technical Director and Deputy to the Commander, Headquarters, U.S. Army Test and Evaluation Command.

66. Mr. Anthony Sconyers, Chief Counsel, U.S. Army Sustainment Command.

67. Mr. Robert E. Seger, Assistant Deputy Chief of Staff—Operations and Training, U.S. Army Training and Doctrine Command.

68. BG Todd T. Semonite, Commander, North Atlantic Division, U.S. Army Corps of Engineers.

69. Mr. David J. Shaffer, Deputy to the Commander, U.S. Army Research, Development and Engineering Command.

70. Mr. Brian M. Simmons, Executive Director, U.S. Army Developmental Test Command.

71. Mr. Mohan Singh, Regional Business Director, North Atlantic Division, U.S. Army Corps of Engineers.

72. Mr. Robert E. Slockbower, Regional Business Director, Southwestern Division, U.S. Army Corps of Engineers.

73. Mr. Craig R. Schmauder, Deputy General Counsel (Civil Works & Environment), Office of the General Counsel.

74. Mr. Karl F. Schneider, Assistant Deputy Chief of Staff, G-1, Office of the Deputy Chief of Staff, G-1.

75. Mr. Robert H. Smiley, Director, Reserve Affairs Integration Office, Office of the Assistant Secretary of the Army (Manpower and Reserve Affairs).

76. Mr. Lewis S. Steenrod, Director of Modernization, Office of the Deputy Chief of Staff, G-8.

77. Mr. Earl H. Stockdale, Chief Counsel, Headquarters, U.S. Army Corps of Engineers.

78. Dr. James J. Streilein, Director, U.S. Army Evaluation Center, U.S. Army Test and Evaluation Command.

79. Mr. Larry Stubblefield, Deputy Administrative Assistant to the Secretary of the Army/Director, Shared Services, Office of the Administrative Assistant to the Secretary of the Army.

80. Mr. John C. F. Tillson, J8/Deputy Director, Capabilities and Assessments (Advisory), Headquarters, European Command.

81. Mr. Davis D. Tindoll, Jr., Deputy Region Director (Korea) (Advisory), U.S. Army Installation Management Korea Region Office.

82. Ms. Belinda A. Tiner, Deputy Auditor General, Policy and Operations Management, U.S. Army Audit Agency.

83. Mr. Donald C. Tison, Assistant Deputy Chief of Staff, G-8, Office of the Deputy Chief of Staff, G-8.

84. Ms. Claudia L. Tomblom, Deputy Assistant Secretary of the Army (Management and Budget), Office of the Assistant Secretary of the Army (Civil Works).

85. Mr. Michael L. Vajda, Director, Civilian Human Resources Agency, Office of the Deputy Chief of Staff, G-1.

86. Mr. Edward W. Walters III, Deputy Assistant Secretary for Strategy and Performance Planning, Office of the Assistant Secretary of the Army (Acquisition, Logistics and Technology).

87. Mr. Scott Welker, Deputy to the Commander, U.S. Army Sustainment Command.

88. MG David F. Wherely, Jr., Director, DC National Guard.

89. Mr. Joseph W. Whitaker, Jr., Deputy Assistant Secretary of the Army (Installation & Housing), Office of the Assistant Secretary of the Army (Installations and Environment).

90. Mr. Gary L. Winkler, Principal Director, Governance, Acquisition & Chief Knowledge Officer, Office of the Chief Information Office/G-6.

91. Mr. David E. Wright, Director, Infrastructure & Logistics Division, North Atlantic Treaty Organization.

The members of the Performance Review Board for the Defense Intelligence Senior Executive Service are:

1. MG John De Freitas, Commanding General, U.S. Army Intelligence and Security Command.

2. Mr. Terrance M. Ford, Assistant Deputy Chief of Staff, G-2, Office of the Deputy Chief of Staff.

3. Mr. Thomas A. Gandy, Director, Counterintelligence, Human Intelligence.

4. Mr. Darell G. Lance, Chief of Staff, U.S. Army Intelligence and Security Command.

5. Mr. Maxie L. McFarland, Deputy Chief of Staff for Intelligence, U.S. Army Training and Doctrine Command.

6. Mr. Jerry V. Proctor, Deputy for Futures, U.S. Army Training and Doctrine Command.

7. Mr. Ben W. A. Purcell, Deputy Director of Intelligence, United States Forces Korea.

8. Ms. Mary Lynn Schnurr, Director, Army Intelligence Community Information Management, Office of the Deputy Chief of Staff, G-2.

9. Mr. Mark A. Smith, Deputy Director for Intelligence, United States Southern Command.

10. Mr. Robert J. Winchester, Assistant for Intelligence Liaison, Office, Chief of Legislative Liaison.

11. Ms. Patricia F. Zitz, Director, Resource Integration, Office of the Deputy Chief of Staff, G-2.

The members of the Performance Review Board for the Defense Intelligence Senior Level are:

1. Mr. Collin A. Agee, Technical Advisor, Intelligence, Surveillance & Reconnaissance, Office of the Deputy Chief of Staff, G-2.

2. Mr. Stephen Bradner, Special Advisor to Commanders in Chief, UNC, Combined Forces Command.

3. Mr. Stephen R. Covington, Special Assistant to the Supreme Allied Commander, Europe for Strategic Studies of the Former Soviet Union.

4. MG John DeFreitas, III, Commanding General, U.S. Army Intelligence and Security Command.

5. Mr. Thomas F. Greco, Special Assistant to the G-2, Headquarters, U.S. Army Europe and 7th Army.

6. Mr. Ernie H. Gurany, Senior General Military Intelligence Analyst, National Ground Intelligence Center.

7. Mr. Larry L. Miller, Senior Cryptologic, Operations Officer, U.S. Army Intelligence and Security Command.

8. Mr. Daniel T. Morris, Special Assistant to the Commander, National Ground Intelligence Center.

9. Mr. William E. Peterson, Senior Intelligence Advisor, Office of the Deputy Chief of Staff, G-2.

10. Mr. Robert Reuss, Technical Advisor, Intelligence Surveillance and Reconnaissance and Operational Environment Integration, U.S. Army Training and Doctrine Command.

11. Ms. Mary B. Scott, Chief Scientist, National Ground Intelligence Center.

12. Mr. William H. Speer, Technical Advisor, Foreign Intelligence Production, Office, Deputy Chief of Staff, G-2.

The members of the Performance Review Board for the Scientific and Technicals, are:

1. Dr. Arthur D. Ballato, Senior Research Scientist (Electromagnetics), U.S. Army Communications and Electronics Research, Development and Engineering Center, U.S. Army Materiel Command.

2. Dr. Todd S. Bridges, Senior Research Scientist (Environmental), U.S. Army Engineering Research and Development Center.

3. Dr. Walter Bryzik, Chief Scientist, U.S. Army Tank Automotive Research, U.S. Army Materiel Command.

4. Dr. Kwong Kit Choi, Senior Research Scientist for Physical Sciences, U.S. Army Research Laboratory.

5. Dr. Henry O. Everitt, III, Senior Research Scientist (Optical Sciences), U.S. Army Research, Development and Engineering Command.

6. Dr. Richard Fong, Senior Research Scientist (Warheads Technology), U.S. Army Armament Research Development and Engineering Center.

7. Dr. Grant R. Gerhart, Senior Research Scientist (Computer Modeling & Simulation), U.S. Army Tank Automotive Research Command.

8. Dr. Claire C. Gordon, Senior Research Scientist (Biological Anthropology), Research, Development & Engineering Command.

9. Dr. Shashi P. Karna, Senior Research Scientist (NanoFunctional Materials), U.S. Army Research Laboratory.

10. Dr. Tomasz R. Letowski, Senior Research Scientist (Soldier Performance), U.S. Army Research Laboratory.

11. Dr. Jester M. Loomis, Senior Research Scientist (Radio Frequency Sensors), U.S. Army Research Development and Engineering Command.

12. Dr. Joseph N. Mait, Senior Research Scientist (Electromagnetics), U.S. Army Research Laboratory.

13. Dr. James W. McCauley, Senior Research Engineer (Ceramic Materials), U.S. Army Research Laboratory.

14. Dr. Robert W. McMillan, Senior Research Scientist (Research Applications), U.S. Army Space and Missiles Defense Command.

15. Dr. Paul F. Mlakar, Senior Research Scientist (Weapons Effects/Structural Dynamics, U.S. Army Engineering Research and Development Center.

16. Dr. Nasser M. Nasrabadi, Senior Research Scientist (Sensors), U.S. Army Research Laboratory.

17. Dr. John A. Parmentola, Director for Research and Laboratory Management, Office of the Assistant Secretary of the Army (Acquisition, Logistics and Technology).

18. Dr. Arunachalam M. Rajendran, Senior Research Scientist (Applied Mechanics), U.S. Army Research Laboratory.

19. Dr. James A. Ratches, Chief Scientist Night Vision Electro-Optics, U.S. Army Communications and Electronics Research.

20. Dr. Jaques Reifman, Senior Research Scientist (Advanced Medical Technology), U.S. Army Medical Research and Medical Command.

21. Dr. Donald T. Resio, Senior Research Scientist (Coastal Sedimentation), U.S. Army Engineering Research and Development Center.

22. Dr. Paul B. Ruffin, Senior Research Physicist (Micro-Sensors and Systems), U.S. Army Research, Development and Engineering Command.

23. Dr. Jose Luis Sagripanti, Research Scientist (Biochemistry), U.S. Army Edgewood Chemical Biological Center.

24. Dr. Connie S. Schmalljohn, Senior Research Scientist for Medical Defense Against Infectious Disease Threats, U.S. Army Research Institute of Infectious Diseases.

25. Dr. Edward M. Schmidt, Senior Research Scientist (Ballistics Research), U.S. Army Research Laboratory.

26. Dr. Michael P. Scully, Senior Research Engineer for Rotorcraft (Aerodynamics and Preliminary Design), U.S. Army Research, Development and Engineering Command.

27. Dr. Paul H. Shen, Senior Research Scientist (Nuclear/Electronics Survivability, U.S. Army Research Laboratory.

28. Dr. Brian R. Strickland, Chief Scientist (Directed Energy Applications), U.S. Army Space and Missile Defense Command.

29. Dr. Mark B. Tischler, Senior Research Scientist (Rotorcraft Flight Dynamics and Control), U.S. Army Research, Development and Engineering Command.

30. Dr. James J. Valdes, Scientific Advisor for Biotechnology, U.S. Army Edgewood Chemical Biological Center.

31. Dr. Charles E. Wade, Senior Research Scientist Combat Casualty Care, U.S. Army Institute of Surgical Research.

32. Dr. Billy J. Walker, Senior Research Scientist (Computational Fluid Dynamics), U.S. Army Research, Development and Engineering Command.

33. Dr. Bruce J. West, Senior Research Scientist (Mathematical Sciences), U.S. Army Research Laboratory, Army Research Office.

34. Dr. Thomas W. Wright, Senior Research Scientist (Terminal Ballistics), U.S. Army Research Laboratory.

Brenda S. Bowen,
Army Federal Register Liaison Officer.

[FR Doc. 06-8935 Filed 10-26-06; 8:45 am]

BILLING CODE 3710-08-M